DELAWARE RIVER BASIN COMMISSION

Notice of Public Hearing and Business Meeting: August 10 and September 14, 2016

Notice is hereby given that the Delaware River Basin Commission will hold a public hearing on Wednesday, August 10, 2016 at the Washington Crossing Historic Park Visitor Center, 1112 River Road, Washington Crossing, Pennsylvania. A business meeting will be held the following month, on Wednesday, September 14, 2016 at the Historic Hotel Bethlehem, 437 Main Street, Bethlehem, Pennsylvania. The hearing and business meeting are open to the public.

Public Hearing. The public hearing on August 10, 2016 will begin at 1:30 p.m. Hearing items will include draft dockets for the withdrawals, discharges and other water-related projects subject to the Commission's review.

The list of projects scheduled for hearing, including project descriptions, will be posted on the Commission's Web site, www.drbc.net, in a long form of this notice at least ten days before the hearing date. Draft resolutions scheduled for hearing also will be posted at www.drbc.net ten or more days prior to the hearing.

Written comments on matters scheduled for hearing on August 10 will be accepted through 5 p.m. on August 11. After the hearing on all scheduled matters has been completed, and as time allows, an opportunity for Open Public Comment will also be provided.

The public is advised to check the Commission's Web site periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on September 14, 2016 will begin at 10:30 a.m. and will include: Adoption of the Minutes of the Commission's June 15, 2016 business meeting, announcements of upcoming meetings and events, a report on hydrologic conditions, reports by the Executive Director and the Commission's General Counsel, and consideration of any items for which a hearing has been completed or is not required.

After all scheduled business has been completed and as time allows, the meeting will also include up to one hour of Open Public Comment.

There will be no opportunity for additional public comment for the record at the September 14 business meeting on items for which a hearing was completed on August 10 or a previous date. Commission consideration on September 14 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on August 10 or to address the Commissioners informally during the Open Public Comment portion of the meeting on either August 10 or September 14 as time allows, are asked to sign up in advance by contacting Ms. Paula Schmitt of the Commission staff, at paula.schmitt@drbc.nj.gov.

Addresses for Written Comment. Written comment on items scheduled for hearing may be delivered by hand at the public hearing or: By hand, U.S. Mail or private carrier to: Commission Secretary, P.O. Box 7360, 25 State Police Drive, West Trenton, NJ 08628; by fax to Commission Secretary, DRBC at 609-883-9522; or by email (preferred) to paula.schmitt@drbc.nj.gov. If submitted by email, written comments on a docket should also be sent to Mr. David Kovach, Manager, Project Review Section at david.kovach@drbc.nj.gov.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Additional Information, Contacts. Additional public records relating to hearing items may be examined at the Commission's offices by appointment by contacting Carol Adamovic, 609-883-9500, ext. 249. For other questions concerning hearing items, please contact Judith Scharite, Project Review Section assistant at 609-883-9500, ext. 216.

Dated: July 20, 2016.
Pamela M. Bush,
Commission Secretary and Assistant General Counsel.

[FR Doc. 2016-17697 Filed 7-25-16; 8:45 am]

BILLING CODE 6360-01-P